Title 3—

The President

Proclamation 8252 of May 5, 2008

Military Spouse Day, 2008

By the President of the United States of America

A Proclamation

Military spouses embody the courage, nobility of duty, and love of country that inspire every American. On Military Spouse Day, we pay tribute to the husbands and wives who support their spouses in America's Armed Forces during times of war and peace.

The legacy of military spouses began when colonial Americans were fighting for independence. Martha Washington boosted the morale of her husband's troops by visiting battlefields and tending to the wounded. Since then, members of our Armed Forces have served our Nation accompanied by the steadfast love and support of their spouses and families.

While our men and women in uniform are protecting our country's founding ideals of liberty, democracy, and justice, their spouses live with uncommon challenges, endure sleepless nights, and spend long periods raising children alone. Many military spouses are also committed volunteers, serving other military families and local communities. Our Nation benefits from the sacrifices of our military families, and we are inspired by their courage, strength, and leadership.

On Military Spouse Day and throughout the year, we honor the commitment spouses have made to freedom's cause. To learn about ways to support our troops and their spouses and families, I encourage all Americans to visit www.americasupportsyou.mil.

NOW, THEREFORE, I, GEORGE W. BUSH, President of the United States of America, by virtue of the authority vested in me by the Constitution and laws of the United States, do hereby proclaim May 9, 2008, as Military Spouse Day. I call upon the people of the United States to observe this day with appropriate ceremonies and activities and by expressing their gratitude to the husbands and wives of those serving in the United States Armed Forces.

IN WITNESS WHEREOF, I have hereunto set my hand this fifth day of May, in the year of our Lord two thousand eight, and of the Independence of the United States of America the two hundred and thirty-second.

[FR Doc. 08-1240

Filed 5-7-08; 9:13 am]

Billing code 3195-01-P